DEPARTMENT OF TRANSPORTATION

Federal Motor Carrier Safety Administration

[Docket No. FMCSA-2013-0025]

Qualification of Drivers; Exemption Applications; Vision

AGENCY: Federal Motor Carrier Safety Administration (FMCSA), DOT.

ACTION: Notice of applications for exemptions; request for comments.

SUMMARY: FMCSA announces receipt of applications from 27 individuals for exemption from the vision requirement in the Federal Motor Carrier Safety Regulations. They are unable to meet the vision requirement in one eye for various reasons. The exemptions will enable these individuals to operate commercial motor vehicles (CMVs) in interstate commerce without meeting the prescribed vision requirement in one eye. If granted, the exemptions would enable these individuals to qualify as drivers of commercial motor vehicles (CMVs) in interstate commerce.

DATES: Comments must be received on or before May 6, 2013.

ADDRESSES: You may submit comments bearing the Federal Docket Management System (FDMS) Docket No. FMCSA-2013-0025 using any of the following methods:

• Federal eRulemaking Portal: Go to http://www.regulations.gov. Follow the on-line instructions for submitting comments.

• Mail: Docket Management Facility; U.S. Department of Transportation, 1200 New Jersey Avenue SE., West Building Ground Floor, Room W12-140, Washington, DC 20590-0001.

• Hand Delivery: West Building Ground Floor, Room W12-140, 1200 New Jersey Avenue SE., Washington, DC, between 9 a.m. and 5 p.m., Monday through Friday, except Federal holidays.

• Fax: 1-202-493-2251.

Instructions: Each submission must include the Agency name and the docket numbers for this notice. Note that all comments received will be posted without change to http://www.regulations.gov, including any personal information provided. Please see the Privacy Act heading below for further information.

Docket: For access to the docket to read background documents or comments, go to http://www.regulations.gov at any time or Room W12-140 on the ground level of the West Building, 1200 New Jersey Avenue SE., Washington, DC, between 9 a.m. and 5 p.m., Monday through Friday, except Federal holidays. The FDMS is available 24 hours each day, 365 days each year. If you want acknowledgment that we received your comments, please include a self-addressed, stamped envelope or postcard or print the acknowledgement page that appears after submitting comments on-line.

Privacy Act: Anyone may search the electronic form of all comments received into any of our dockets by the name of the individual submitting the comment (or of the person signing the comment, if submitted on behalf of an association, business, labor union, etc.). You may review DOT's Privacy Act Statement for the Federal Docket Management System (FDMS) published in the Federal Register on December 29, 2010 (75 FR 82132), or you may visit http://www.gpo.gov/fdsys/pkg/FR-2010-12-29/pdf/2010-32876.pdf.

FOR FURTHER INFORMATION CONTACT: Elaine M. Papp, Chief, Medical Programs Division, (202) 366-4001, fmcsamedical@dot.gov, FMCSA, Department of Transportation, 1200 New Jersey Avenue SE., Room W64-224, Washington, DC 20590-0001. Office hours are from 8:30 a.m. to 5 p.m., Monday through Friday, except Federal holidays.

SUPPLEMENTARY INFORMATION:

Background

Under 49 U.S.C. 31136(e) and 31315, FMCSA may grant an exemption from the Federal Motor Carrier Safety Regulations for a 2-year period if it finds “such exemption would likely achieve a level of safety that is equivalent to or greater than the level that would be achieved absent such exemption.” FMCSA can renew exemptions at the end of each 2-year period. The 27 individuals listed in this notice have each requested such an exemption from the vision requirement in 49 CFR 391.41(b)(10), which applies to drivers of CMVs in interstate commerce. Accordingly, the Agency will evaluate the qualifications of each applicant to determine whether granting an exemption will achieve the required level of safety mandated by statute.

Qualifications of Applicants

Glenn Blanton

Mr. Blanton, age 64, has had amblyopia in his right eye since childhood. The visual acuity in his right eye is 20/80, and in his left eye, 20/20. Following an examination in 2013, his optometrist noted, “In my medical opinion, Mr. Blanton has sufficient vision to perform the driving tasks sufficient to operate a commercial vehicle.” Mr. Blanton reported that he has driven straight trucks for 42 years, accumulating 1.47 million miles, and tractor-trailer combinations for 42 years, accumulating 5.46 million miles. He holds a Class A Commercial Driver's License (CDL) from Ohio. His driving record for the last 3 years shows one crash, for which he was not cited, and no convictions for a moving violation in a CMV.

Matthew Buersken

Mr. Buersken, 29, has had refractive amblyopia in his left eye since childhood. The visual acuity in his right eye is 20/20, and in his left eye, 20/100. Following an examination in 2012, his optometrist noted, “In my opinion, Matt has developed the adaptive visual behaviors necessary to drive a commercial vehicle safely.” Mr. Buersken reported that he has driven tractor-trailer combinations for 2.5 years, accumulating 350,000 miles. He holds a Class A CDL from Minnesota. His driving record for the last 3 years shows no crashes and one conviction for a moving violation in a CMV in which he exceeded the speed limit by 8 mph.

Fred Fricks

Mr. Fricks, 67, has optic atrophy in his left eye due to a traumatic incident 20 years ago. The best corrected visual acuity in his right eye is 20/20, and in his left eye, light perception. Following an examination in 2012, his optometrist noted, “It is my impression that Mr. Fricks has been light perception vision O.S. for many years.* * * It is my impression that Fred Fricks can safely operate a commercial vehicle.” Mr. Fricks reported that he has driven straight trucks for 45 years, accumulating 2.7 million miles. He holds an operator's license from Pennsylvania. His driving record for the last 3 years shows no crashes but one conviction for a moving violation in a CMV in which he exceeded the speed limit by 25 mph.

Mark E. Haukom

Mr. Haukom, 58, has had amblyopia in his left eye since birth. The best corrected visual acuity in his right eye is 20/20, and in his left eye, 20/150. Following an examination in 2012, his optometrist noted, “Also as indicated in my enclosed letter, I feel he has sufficient vision to operate a commercial vehicle.” Mr. Haukom reported that he has driven straight trucks for 38 years, accumulating 760,000 miles, and tractor-trailer combinations for 38 years, accumulating 152,000 miles. He holds an operator's license from Minnesota. His driving record for the last 3 years shows no crashes and no convictions for moving violations in a CMV.

Wesley D. Hogue

Mr. Hogue, 45, has had refractive amblyopia in his right eye since childhood. The best corrected visual acuity in his right eye is 20/70, and in his left eye, 20/15. Following an examination in 2012, his optometrist noted, “The patient has passed all necessary tests to my satisfaction. In my professional opinion, I feel like this patient is visually able to drive a commercial motor vehicle.” Mr. Hogue reported that he has driven straight trucks for 10 years, accumulating 200,000 miles, and tractor-trailer combinations for 4.5 years, accumulating 1,350 miles. He holds a Class A CDL from Arkansas. His driving record for the last 3 years shows no crashes and no convictions for moving violations in a CMV.

Anthony Lang

Mr. Lang, 45, has had amblyopia in his left eye since childhood. The best corrected visual acuity in his right eye is 20/20, and in his left eye, 20/50. Following an examination in 2012, his optometrist noted, “In my opinion, Anthony has sufficient vision to perform the driving tasks required to operate a commercial vehicle without spectacle correction.” Mr. Lang reported that he has driven straight trucks for 27 years, accumulating 405,000 miles. He holds a Class A CDL from New Hampshire. His driving record for the last 3 years shows no crashes and no convictions for moving violations in a CMV.

Jason Laub

Mr. Laub, 37, has had amblyopia in his right eye since birth. The best corrected visual acuity in his right eye is 20/50, and in his left eye, 20/25. Following an examination in 2012, his ophthalmologist noted, “Mr. Laub has sufficient vision to perform the driving tasks required to operate a commercial vehicle.” Mr. Laub reported that he has driven tractor-trailer combinations for 12 years, accumulating 900,000 miles. He holds a Class A CDL from Ohio. His driving record for the last 3 years shows no crashes and no convictions for moving violations in a CMV.

Edward Lavin

Mr. Lavin, 49, has had a macular scar in his left eye since birth. The best corrected visual acuity in his right eye is 20/20, and in his left eye, hand motion. Following an examination in 2012, his optometrist noted, “I found scarring in the macula of the left eye. * * * It is my understanding the Mr. Lavin has been successfully driving a commercial vehicle for 15 years and I see no medical reason in my opinion to prevent him from continuing his career.” Mr. Lavin reported that he has driven straight trucks for 14 years, accumulating 420,000 miles. He holds an operator's license from Connecticut. His driving record for the last 3 years shows no crashes and no convictions for moving violations in a CMV.

Wayne Litwiller

Mr. Litwiller, 65, has had refractive amblyopia in his left eye since birth. The best corrected visual acuity in his right eye is 20/20, and in his left eye, 20/200. Following an examination in 2013, his ophthalmologist noted, “It is my opinion that Mr. Litwiller has sufficient visual acuity, color vision, and visual field to safely operate a commercial vehicle.” Mr. Litwiller reported that he has driven straight trucks for 40 years, accumulating 500,000 miles, and tractor-trailer combinations for 5, accumulating 125,000 miles. He holds an operator's license from Illinois. His driving record for the last 3 years shows no crashes and no convictions for moving violations in a CMV.

Edward Matiukas

Mr. Matiukas, 51, has had chorioretinal scarring in his right eye since childhood. The best corrected visual acuity in his right eye is 20/200, and in his left eye, hand 20/20. Following an examination in 2012, his optometrist noted, “In my medical opinion Mr. Matiukas has sufficient vision to perform the driving tasks required to operate a commercial vehicle.” Mr. Matiukas reported that he has driven straight trucks for 30 years, accumulating 172,500 miles, and tractor-trailer combinations for 6 months, accumulating 1000 miles. He holds an operator's license from Maryland. His driving record for the last 3 years shows no crashes and no convictions for moving violations in a CMV.

Luther McKinney

Mr. McKinney, 57, has had amblyopia scarring in his left eye since childhood. The best corrected visual acuity in his right eye is 20/20, and in his left eye, hand 20/200. Following an examination in 2013, his ophthalmologist noted, “Based on my evaluation here in this office, I feel that I can certify that in my medical opinion, the patient has sufficient vision to perform the driving tasks that are required to operate a commercial vehicle, especially since he has been doing so safely for over 30 years.” Mr. McKinney reported that he has driven tractor-trailer combinations for 32 years, accumulating 3.2 million miles. He holds a Class A CDL from Virginia. His driving record for the last 3 years shows no crashes and no convictions for moving violations in a CMV.

Steven J. McLain

Mr. McLain, 40, has had a central macular scar in his right eye since childhood. The best corrected visual acuity in his right eye is hand motion, and in his left eye, 20/20. Following an examination in 2013, his optometrist noted, “I certify in my medical opinion, he has sufficient vision to perform the driving tasks required to operate a commercial vehicle.” Mr. McLain reported that he has driven straight trucks for 19 years, accumulating 380,000 miles, and tractor-trailer combinations for 19, accumulating 570,000 miles. He holds Class A CDL from Tennessee. His driving record for the last 3 years shows no crashes and no convictions for moving violations in a CMV.

Enes Milanovic

Mr. Milanovic, 41, has had aphakia in his right eye since 1993. The best corrected visual acuity in his right eye is count fingers, and in his left eye, 20/20. Following an examination in 2012, his ophthalmologist noted, “Stable condition, no treatment necessary at this time. Estermann Visual field discussed, normal results. No contradiction to operating commercial vehicles.” Mr. Milanovic reported that he has driven straight trucks for 9 years, accumulating 990,000 miles. He holds a Class CA CDL from Michigan. His driving record for the last 3 years shows no crashes and no convictions for moving violations in a CMV.

James McClure

Mr. McClure, 63, has had a retinal scar in his left eye since childhood. The best corrected visual acuity in his right eye is 20/20, and in his left eye, 20/200. Following an examination in 2013, his optometrist noted, “In my medical opinion, Mr. McClure has sufficient vision to perform the driving tasks required to operate a commercial vehicle.” Mr. McClure reported that he has driven straight trucks for 15 years, accumulating 750,000 miles, and tractor-trailer combinations for 28, accumulating 2.35 million miles. He holds a Class A CDL from North Carolina. His driving record for the last 3 years shows no crashes and no convictions for moving violations in a CMV.

Donie Rhoads

Mr. Rhoads, 59, has aphakia and glaucoma in his left eye due to a traumatic incident 40 years ago. The best corrected visual acuity in his right eye is 20/20, and in his left eye, 20/400. Following an examination in 2012, his ophthalmologist noted, “I believe Mr. Rhoads has been performing his commercial driving visual functions without incident. If that is the case, and given that he hasn't had a change in his visual function, I think he has sufficient vision to perform the tasks required to operate the commercial vehicle he has been operating.” Mr. Rhoads reported that he has driven straight trucks for 38 years, accumulating 1.5 million miles, and tractor-trailer combinations for 38, accumulating 1.9 million miles. He holds an operator's license from Montana. His driving record for the last 3 years shows no crashes and no convictions for moving violations in a CMV.

Alfred J. Riesselman

Mr. Riesselman, 70, has had open angle glaucoma and a failed cornea transplant in his left eye for 20 years. The best corrected visual acuity in his right eye is 20/20, and in his left eye, no light perception. Following an examination in 2012, his optometrist noted, “He became blind in the left eye 20 years ago and the right eye will never be affected. His right eye compensates well for the left eye and he will be safe to operate a commercial vehicle.” Mr. Riesselman reported that he has driven tractor-trailer combinations for 49 years, accumulating 6.1 million miles. He holds an Class A CDL from Minnesota. His driving record for the last 3 years shows no crashes and no convictions for moving violations in a CMV.

Leo D. Roy

Mr. Roy, 56, has had a history of metallic intraocular foreign body with subsequent pars plana vitrectomy with foreign body extraction, endolaser photocoagulation, cryotherapy, and cataract extraction with IOL implant in the right eye since 1994. The best corrected visual acuity in his right eye is 20/200, and in his left eye, 20/20. Following an examination in 2013, his optometrist noted, “I do feel that he is visually capable of performing driving tasks required to operate a commercial vehicle.” Mr. Roy reported that he has driven straight trucks for 10 years, accumulating 375,000 miles. He holds a Class B CDL from New Hampshire. His driving record for the last 3 years shows no crashes and no convictions for moving violations in a CMV.

Steven Schaumberg

Mr. Schaumberg, 55, has had amblyopia in his left eye since childhood. The best corrected visual acuity in his right eye is 20/20, and in his left eye, 20/300. Following an examination in 2012, his ophthalmologist noted, “He has sufficient vision in his right eye to drive a commercial vehicle.” Mr. Schaumberg reported that he has driven straight trucks for 25 years, accumulating 3,750 miles, and tractor-trailer combinations for 25, accumulating 3,750 miles. He holds a Class A CDL from New Jersey. His driving record for the last 3 years shows no crashes and no convictions for moving violations in a CMV.

Gregory C. Simmons

Mr. Simmons, 55, has had advanced glaucoma in his left eye since 2000. The best corrected visual acuity in his right eye is 20/20, and in his left eye, hand motion. Following an examination in 2012, his ophthalmologist noted, “In my opinion Mr. Simmons has sufficient vision to continue his duties as a commercial driver.” Mr. Simmons reported that he has driven straight trucks for 14 months, accumulating 6,500 miles, and tractor-trailer combinations for 27, accumulating 675,000 miles. He holds a Class A CDL from Maryland. His driving record for the last 3 years shows no crashes and no convictions for moving violations in a CMV.

Merreo A. Stewart

Mr. Stewart, 56, has had optic neuritis in his right eye since 2006. The best corrected visual acuity in his right eye is 20/400, and in his left eye, 20/20. Following an examination in 2013, his optometrist noted, “Mr. Stewart has a history of an inflammatory event called optic neuritis in April 2006 which rendered his vision in his right eye significantly diminished.* * * In my medical opinion, I see no reason that Mr. Stewart would suffer from any significant difficulties with driving his commercial vehicle safely.” Mr. Stewart reported that he has driven straight trucks for 3 years, accumulating 600,000 miles, and tractor-trailer combinations for 35, accumulating 4 million miles. He holds a Class A CDL from Minnesota. His driving record for the last 3 years shows no crashes and no convictions for moving violations in a CMV.

Jeffrey P. Streech

Mr. Streech, 52, has had a corneal scar in his right eye since 1978. The best corrected visual acuity in his right eye is 20/50, and in his left eye, hand 20/20. Following an examination in 2012, his ophthalmologist noted, “Based in the findings described herein, in my medical opinion, the patient does have sufficient vision to operate a commercial vehicle.” Mr. Streech reported that he has driven straight trucks for 6 years, accumulating 246,000 miles. He holds a Class B CDL from Minnesota. His driving record for the last 3 years shows no crashes but one conviction for a moving violation in a CMV; he exceeded the speed limit by 10 mph.

James B. Taflinger, Sr.

Mr. Talfinger, 53, has had amblyopia in his left eye since childhood. The best corrected visual acuity in his right eye is 20/20, and in his left eye, 20/70. Following an examination in 2012, his optometrist noted, “Mr. Taflinger was examined in this office on May 29, 2012, with a follow-up visual field analysis on June 14, 2012 * * * Mr. Taflinger has had a long history of operating a commercial vehicle without any significant incident reported to me in his medical history. I recommend that he be allowed to continue his same occupation of operating a commercial vehicle.” Mr. Taflinger reported that he has driven straight trucks for 9 years, accumulating 562,500 miles, and tractor-trailer combinations for 6, accumulating 435,000 miles. He holds a Class A CDL from Virginia. His driving record for the last 3 years shows no crashes and no convictions for moving violations in a CMV.

Ronald W. Thompson

Mr. Thompson, 59, has had loss of central vision in his left eye since 1999. The best corrected visual acuity in his right eye is 20/20, and in his left eye, 20/100. Following an examination in 2012, his optometrist noted, “I certify that in my opinion, Ron Thompson has sufficient vision to operate a commercial vehicle.” Mr. Thompson reported that he has driven straight trucks for 40 years, accumulating 2 million miles, and tractor-trailer combinations for 20, accumulating 600,000 miles. He holds a Class A CDL from Wisconsin. His driving record for the last 3 years shows no crashes and no convictions for moving violations in a CMV.

Jeffrey M. Thorpe

Mr. Thorpe, 54, has had amblyopia in his left eye since childhood. The best corrected visual acuity in his right eye is 20/20, and in his left eye, 20/50. Following an examination in 2012, his optometrist noted, “In my opinion, Mr. Thorpe has sufficient vision to perform the driving tasks required to operate a commercial motor vehicle.” Mr. Thorpe reported that he has driven straight trucks for 30 years, accumulating 45,000 miles. He holds a Class B CDL from Wisconsin. His driving record for the last 3 years shows no crashes and no convictions for moving violations in a CMV.

Walter S. Vollmer

Mr. Vollmer, 53, has had refractive amblyopia in his right eye since birth. The best corrected visual acuity in his right eye is 20/60, and in his left eye, 20/20. Following an examination in 2012, his optometrist noted, “Through in office testing, I believe that currently Walter possesses sufficient vision to operate a commercial vehicle.” Mr. Vollmer reported that he has driven straight trucks for 35 years, accumulating 525,000 miles, and tractor-trailer combinations for 35, accumulating 262,500 miles. He holds a Class A CDL from Idaho. His driving record for the last 3 years shows no crashes and no convictions for moving violations in a CMV.

Roy J. Ware

Mr. Ware, 53, has had corneal scarring in his right eye due to a traumatic incident at age 10. The best corrected visual acuity in his right eye is hand motion, and in his left eye, 20/20. Following an examination in 2013, his ophthalmologist noted, “In summary Mr. Ware has hand motion only vision in his right eye from a childhood injury which is permanent and stable. His left eye is normal with 20/20 vision and in my medical opinion he has sufficient vision to perform the driving tasks required to operate a commercial vehicle.” Mr. Ware reported that he has driven straight trucks for 29 years, accumulating 870,000 miles. He holds an operator's license from Georgia. His driving record for the last 3 years shows no crashes and no convictions for moving violations in a CMV.

Paul Williams

Mr. Williams, 49, has had a corneal scar in his right eye since childhood. The best corrected visual acuity in his right eye is light perception, and in his left eye, 20/20. Following an examination in 2012, his optometrist noted, “This patient has sufficient vision to perform the task at operating a commercial vehicle.” Mr. Williams reported that he has driven straight trucks for 26 years, accumulating 1.4 million miles. He holds a Class B CDL from New York. His driving record for the last 3 years shows no crashes and one conviction for a moving violation in a CMV; he was using a mobile phone while operating a CMV.

Request for Comments

In accordance with 49 U.S.C. 31136(e) and 31315, FMCSA requests public comment from all interested persons on the exemption petitions described in this notice. The Agency will consider all comments received before the close of business May 6, 2013. Comments will be available for examination in the docket at the location listed under the ADDRESSES section of this notice. The Agency will file comments received after the comment closing date in the public docket, and will consider them to the extent practicable.

In addition to late comments, FMCSA will also continue to file, in the public docket, relevant information that becomes available after the comment closing date. Interested persons should monitor the public docket for new material.

Issued on: March 26, 2013.
Larry W. Minor,
Associate Administrator for Policy.

[FR Doc. 2013-07864 Filed 4-3-13; 8:45 am]

BILLING CODE 4910-EX-P